DEPARTMENT OF ENERGY

Environmental Management Site-Specific Advisory Board, Idaho Cleanup Project

AGENCY: Office of Environmental Management, Department of Energy.

ACTION: Notice of open meeting.

SUMMARY: This notice announces an in-person/virtual hybrid meeting of the Environmental Management Site-Specific Advisory Board (EM SSAB), Idaho Cleanup Project (ICP). The Federal Advisory Committee Act requires that public notice of this meeting be announced in the Federal Register.

DATES: Thursday, February 22, 2024; 9 a.m.-12:45 p.m. MST.

An opportunity for public comment will be at 11:30 a.m. MST.

These times are subject to change; please contact the ICP Citizens Advisory Board (CAB) Administrator (below) for confirmation of times prior to the meeting.

ADDRESSES: This meeting will be open to the public in-person at the Residence Inn (address below) or virtually via Zoom. To attend virtually, please contact Mariah Porter, ICP CAB Administrator, by email mariah.porter@em.doe.gov or phone (208) 557-7857, no later than 5:00 p.m. MST on Tuesday, February 20, 2024.

Board members, Department of Energy (DOE) representatives, agency liaisons, and Board support staff will participate in-person at: Residence Inn, 635 West Broadway Street, Idaho Falls, ID 83404.

FOR FURTHER INFORMATION CONTACT: Mariah Porter, ICP CAB Administrator, by phone (208) 557-7857 or email mariah.porter@em.doe.gov or visit the Board's internet homepage at https://energy.gov/em/icpcab.

SUPPLEMENTARY INFORMATION:

Purpose of the Board: The purpose of the Board is to provide advice and recommendations concerning the following EM site-specific issues: clean-up activities and environmental restoration; waste and nuclear materials management and disposition; excess facilities; future land use and long-term stewardship. The Board may also be asked to provide advice and recommendations on any EM program components.

Tentative Agenda (agenda topics may change up to the day of the meeting; please contact Mariah Porter for the most current agenda):

1. Recent Public Outreach

2. ICP Overview

3. Program Presentation

4. Budget Update on Fiscal Year 2024 Appropriation and Fiscal Year 2026 Budget Priorities

5. Federal Advisory Committee Act Discussion

6. Program Presentation

Public Participation: The in-person/online virtual hybrid meeting is open to the public either in-person at the Residence Inn or via Zoom. To sign-up for public comment, please contact the ICP CAB Administrator (above) no later than 5 p.m. MST on Tuesday, February 20, 2024. In addition to participation in the live public comment sessions identified above, written statements may be filed with the Board either five days before or five days after the meeting by sending them to the ICP CAB Administrator at the aforementioned email address. Written public comment received prior to the meeting will be read into the record. The Deputy Designated Federal Officer is empowered to conduct the meeting in a fashion that will facilitate the orderly conduct of business. Individuals wishing to make public comments will be provided a maximum of five minutes to present their comments.

Minutes: Minutes will be available by writing or calling Mariah Porter, ICP CAB Administrator, phone (208) 557-7857 or email mariah.porter@em.doe.gov. Minutes will also be available at the following website: https://www.energy.gov/em/icpcab/listings/cab-meetings.

Signing Authority: This document of the Department of Energy was signed on January 24, 2024, by David Borak, Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 25, 2024.
Treena V. Garrett,
Federal Register Liaison Officer, U.S. Department of Energy.

[FR Doc. 2024-01769 Filed 1-29-24; 8:45 am]

BILLING CODE 6450-01-P